DEPARTMENT OF LABOR

Employment and Training Administration

Determinations Regarding Eligiblity To Apply for Trade Adjustment Assistance

In accordance with Sections 223 and 284 (19 U.S.C. 2273 and 2395) of the Trade Act of 1974 (19 U.S.C. 2271, et seq.) (“Act”), as amended, the Department of Labor herein presents summaries of determinations regarding eligibility to apply for trade adjustment assistance under Chapter 2 of the Act (“TAA”) for workers by (TA-W) issued during the period of April 1, 2022, through April 30, 2022.

This notice includes summaries of initial determinations such as Affirmative Determinations of Eligibility, Negative Determinations of Eligibility, and Determinations Terminating Investigations of Eligibility within the period. If issued in the period, this notice also includes summaries of post-initial determinations that modify or amend initial determinations such as Affirmative Determinations Regarding Applications for Reconsideration, Negative Determinations Regarding Applications for Reconsideration, Revised Certifications of Eligibility, Revised Determinations on Reconsideration, Negative Determinations on Reconsideration, Revised Determinations on remand from the Court of International Trade, and Negative Determinations on remand from the Court of International Trade.

Affirmative Determinations for Trade Adjustment Assistance

The following certifications have been issued.

TA-W-No. | Subject firm | Location | Reason(s)
96,991 | Mattress Mill | Bozeman, MT | ITC Determination.
98,181 | Sony DADC US Inc | Terre Haute, IN | Actual/Likely Increase in Imports following a Shift Abroad.
98,185 | Element Electronics | Winnsboro, SC | Increased Customer Imports.
98,208 | Tops Products, LLC | Beresford, SD | Shift in Production to an FTA Country or Beneficiary.
98,216 | HP Inc.—Puerto Rico, Imaging and Printing Group | Aguadilla, PR | Shift in Production to an FTA Country or Beneficiary.
98,228 | Android Industries Belvidere, LLC | Belvidere, IL | Upstream Supplier.
98,230 | MPT Lansing LLC, Powertrain Division | Lansing, MI | Shift in Production to an FTA Country or Beneficiary.
98,240 | Flowserve Corporation, Aftermarket Service & Solutions Division | Tulsa, OK | Shift in Production to an FTA Country or Beneficiary.
98,247 | Hutchinson Precision Sealing Systems, Inc | Danielson, CT | Shift in Production to an FTA Country or Beneficiary.
98,253 | VITECH Manufacturing, LP | Hopkinsville, KY | Shift in Production to an FTA Country or Beneficiary.

Negative Determinations for Trade Adjustment Assistance

The following investigations revealed that the eligibility criteria for TAA have not been met for the reason(s) specified.

TA-W-No. | Subject firm | Location | Reason(s)
96,934 | Perform Group LLC | York, PA | No Shift in Production or Other Basis.
98,124 | Linwood Mining and Minerals | Davensport, IA | No Import Increase and/or Production Shift Abroad.
98,164 | Providence Health & Services, HIM CODING PSMS-48187069 Team St. Joseph | Mission Hills, CA | Workers Do Not Produce an Article.
98,180 | Siemens Industry (SI)—Nebraska Sales Office | Omaha, NE | Workers Do Not Produce an Article.
98,187 | The Enstrom Helicopter Corporation | Menominee, MI | No Import Increase and/or Production Shift Abroad.
98,194 | Amy's Kitchen, Inc | Pocatello, ID | No Sales or Production Decline/Shift in Production (Domestic Transfer).
98,195 | Endomines Idaho, LLC, U.S. Division | Elk City, ID | Predominant Cause of Layoffs Unrelated to Imports, Shift in Production to Beneficiary Country, or Increase in Imports Following a Shift.
98,197 | Zones, Inc | Auburn, WA | Workers Do Not Produce an Article.
98,207 | LSC Communications Book LLC dba Lakeside Book Company | Cranbury, NJ | Predominant Cause of Layoffs Unrelated to Imports, Shift in Production to Beneficiary Country, or Increase in Imports Following a Shift.
98,211 | KWS Services North America LLC | Bloomington, MN | Workers Do Not Produce an Article.
98,224 | TE Connectivity Corporation, Customer Care Team | Hampton, VA | Workers Do Not Produce an Article
98,226 | Greatbatch, Ltd | Beaverton, OR | Workers Do Not Produce an Article.
98,232 | Genesys Cloud Services Inc. as Genesys Telecommunications Laboratories Inc | Indianapolis, IN | Workers Do Not Produce an Article.
98,241 | MyJoVE Corporation | Cambridge, MA | Workers Do Not Produce an Article.
98,245 | ALM Media LLC, Editorial Division | Erlanger, KY | No Import Increase and/or Production Shift Abroad.

Determinations Terminating Investigations for Trade Adjustment Assistance

The following investigations were terminated for the reason(s) specified.

TA-W-No. | Subject firm | Location | Reason(s)
96,940 | HCL America | Houston, TX | Invalid Petition.
97,059 | Granite Source Acquisition, LLC dba Premier Surfaces | Chantilly, VA | Existing Certification in Effect.

Revised Certifications of Eligibility

The following revised certifications of eligibility to apply for TAA have been issued.

TA-W-No. | Subject firm | Location | Reason(s)
95,607 | Granite Source Acquisition, LLC, DBA Premier Surfaces | Chantilly, VA | Worker Group Clarification.
95,607A | Granite Source Acquisition, LLC dba Premier Surfaces | Ashland, VA | Worker Group Clarification.
95,607B | Granite Source Acquisition, LLC dba Premier Surfaces | Ashland, VA | Worker Group Clarification.
95,607C | Granite Source Acquisition, LLC dba Premier Surfaces | Wichita, KS | Worker Group Clarification.
95,607D | Granite Source Acquisition, LLC dba Premier Surfaces | Fenton, MO | Worker Group Clarification.
95,607E | Granite Source Acquisition, LLC dba Premier Surfaces | Burnsville, MN | Worker Group Clarification.
95,607F | Granite Source Acquisition, LLC dba Premier Surfaces | Omaha, NE | Worker Group Clarification.
95,607G | Granite Source Acquisition, LLC dba Premier Surfaces | Urbandale, IA | Worker Group Clarification.
95,607H | Granite Source Acquisition, LLC dba Premier Surfaces | Huntsville, AL | Worker Group Clarification.
95,607I | Granite Source Acquisition, LLC dba Premier Surfaces | Alpharetta, GA | Worker Group Clarification.
95,607J | Granite Source Acquisition, LLC dba Premier Surfaces | Alpharetta, GA | Worker Group Clarification.
95,607K | Granite Source Acquisition, LLC dba Premier Surfaces | Birmingham, MI | Worker Group Clarification.
95,607L | Granite Source Acquisition, LLC dba Premier Surfaces | Rochester, NY | Worker Group Clarification.
95,607M | Granite Source Acquisition, LLC dba Premier Surfaces | Chattanooga, TN | Worker Group Clarification.
95,607N | Granite Source Acquisition, LLC dba Premier Surfaces | Riverside, MO | Worker Group Clarification.

I hereby certify that the aforementioned determinations were issued during the period of April 1, 2022 through April 30, 2022. These determinations are available on the Department's website https://www.dol.gov/agencies/eta/tradeact under the searchable listing determinations or by calling the Office of Trade Adjustment Assistance toll free at 888-365-6822.

Signed at Washington, DC, this 5th day of May 2022.
Hope D. Kinglock,
Certifying Officer, Office of Trade Adjustment Assistance.

[FR Doc. 2022-10338 Filed 5-12-22; 8:45 am]

BILLING CODE 4510-FN-P